Proclamation 8124 of April 11, 2007

Thomas Jefferson Day, 2007

By the President of the United States of America

A Proclamation

On Thomas Jefferson Day, we commemorate the birthday of a monumental figure whose place in our Nation's history will always be cherished. Thomas Jefferson was a scholar, statesman, author, architect, and patriot, and today we celebrate his many accomplishments and lasting legacy.

Thomas Jefferson continues to capture our imagination because our country still echoes his ideals. In 1776, as a young lawyer from Virginia, he drafted the Declaration of Independence for the Continental Congress and articulated the American creed. From that document was born a Nation with a message of hope—that all men are created equal and meant to be free. The words Jefferson penned were a bold statement of revolutionary principles, and they have lifted the lives of millions in America and around the world.

As the third President of the United States, Jefferson worked to realize the vision he held for our young democracy. He signed legislation in 1802 that established the United States Military Academy at West Point, New York, and began the great tradition of service academies that have contributed immensely to the defense of our freedom. He believed in the possibility of westward expansion, doubling the size of our Nation with the Louisiana Purchase and encouraging the Lewis and Clark Expedition to help open the unknown West for future development.

Thomas Jefferson served his fellow citizens in many other important roles, including Governor of Virginia, Secretary of State, and Ambassador to France. Yet, of his many accomplishments, Thomas Jefferson will always be remembered for his belief in liberty and in the ability of citizens to govern their own country and their own lives. As we celebrate his birthday, we are proud that the Nation he helped establish remains free, independent, and true to the ideals of our founding. Today, the United States of America is the world's foremost champion of liberty, moving forward with confidence and strength, and an example to the world of what free people can achieve.

NOW, THEREFORE, I, GEORGE W. BUSH, President of the United States of America, by virtue of the authority vested in me by the Constitution and laws of the United States of America, do hereby proclaim April 13, 2007, as Thomas Jefferson Day. I encourage all citizens to join in celebrating the achievements of this extraordinary American, reflecting on his words, and learning more about his influence on our history and ideals.

IN WITNESS WHEREOF, I have hereunto set my hand this eleventh day of April, in the year of our Lord two thousand seven, and of the Independence of the United States of America the two hundred and thirty-first.

[FR Doc. 07-1911

Filed 4-13-07; 11:49 am]

Billing code 3195-01-P